DEPARTMENT OF THE INTERIOR

National Park Service

Notice of Intent to Repatriate a Cultural Item: University of Hawai`i at Manoa, Honolulu, HI

AGENCY: National Park Service, Interior.

ACTION: Notice.

Notice is here given in accordance with the Native American Graves Protection and Repatriation Act (NAGPRA), 25 U.S.C. 3005, of the intent to repatriate a cultural item in the possession of the University of Hawai`i at Manoa, Honolulu, HI, that meets the definition of unassociated funerary object under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

A book entitled,“Hawaiian Kapas: Rodman collection, from Kahua, Kohala,” is in the possession of the Hamilton Library, University of Hawai`i at Manoa, Honolulu, HI. The book includes kapa (bark cloth) that originated from four known Hawaiian burial caves including Forbes Cave, Mummy Cave, Kukui Umi Cave, and Kanupa Cave. The manuscript by author Julius Rodman establishes a reasonable belief that the kapa included in the book were removed from the Hawaiian burial caves and are funerary objects as defined by NAGPRA. Since the book includes the kapa, it is considered to be one object and funerary in nature.

Officials of the University of Hawai`i at Manoa have determined that, pursuant to 25 U.S.C. 3001(3)(B), the object described above is reasonably believed to have been placed with or near individual human remains at the time of death or later as part of the death rite or ceremony and is believed, by a preponderance of the evidence, to have been removed from a specific burial site of a Native Hawaiian individual. Officials of the University of Hawai`i at Manoa also have determined that, pursuant to 25 U.S.C. 3001(2), there is a relationship of shared group identity that can be reasonably traced between the unassociated funerary object and Hui Malama I Na Kupuna O Hawai'i Nei.

Representatives of any other Indian tribe or Native Hawaiian organization that believes itself to be culturally affiliated with the unassociated funerary object should contact Gregg Takayama, Director of Community and Government Affairs, University of Hawai`i at Manoa, Office of the Chancellor, 2500 Campus Road, Honolulu, HI 96822, telephone (808) 956-9836, before July 28, 2010. Repatriation of the unassociated funerary objects to Hui Malama I Na Kupuna O Hawai'i Nei may proceed after that date if no additional claimants come forward.

The University of Hawai`i at Manoa is responsible for notifying Hui Malama I Na Kupuna O Hawai'i Nei that this notice has been published.

Dated: June 22, 2010
Sherry Hutt,
Manager, National NAGPRA Program.

[FR Doc. 2010-15598 Filed 6-25-10; 8:45 am]

BILLING CODE 4312-50-S